DEPARTMENT OF HEALTH AND HUMAN SERVICES

National Institutes of Health

Center for Scientific Review; Amended Notice of Meeting

Notice is hereby given of a change in the meeting of the Center for Scientific Review Special Emphasis Panel, Topics in Neurobehavior, Neuropsychology and Neurodevelopment, April 29, 2025, 09:30 a.m. to April 30, 2025, 07:00 p.m., National Institutes of Health, 6701 Rockledge Drive, Bethesda, MD, 20892 which was published in the Federal Register on March 19, 2025, 90 FR 12738, Doc No 2025-04598.

This meeting is being amended to change the contact person from Sulagna Banerjee to Dario Dieguez, Center for Scientific Review, National Institutes of Health, 6701 Rockledge Drive, Bethesda, MD 20892, dario.dieguez@nih.gov. The meeting is closed to the public.

Dated: April 4, 2025.
David W. Freeman,
Supervisory Program Analyst, Office of Federal Advisory Committee Policy.

[FR Doc. 2025-06093 Filed 4-8-25; 8:45 am]

BILLING CODE 4140-01-P